DEPARTMENT OF LABOR

Employment and Training Administration

Solicitation for Grant Application (SGA) H-1B Technical Skills Training Grants

AGENCY: Employment and Training Administration (ETA), Labor.

ACTION: Notice; correction.

SUMMARY: The Employment and Training Administration published a document in the Federal Register on December 14, 2001, concerning availability of grant funds for skills training programs for unemployed and employed workers. These grants are to be financed by user fees paid by employers to bring foreign workers into the U.S. under a new H-1B nonimmigrant visa or at visa renewal. The document contained incorrect dates.

FOR FURTHER INFORMATION CONTACT: Ella Freeman, Grants Management Specialist, Division of Federal Assistance, Fax (202) 693-2879.

Correction

The Federal Register of December 14, 2001, in FR Doc. 01-30922, on page 64859, at the bottom of the second column and top of the third column, correct the Dates caption to read:

DATES: Applications for grant awards will be accepted commencing immediately. The closing date for receipt of applications shall be February 19, 2002 at 4 p.m. (Eastern Time) at the address listed.

Signed at Washington, DC, this 7th day of January, 2002.
James W. Stockton,
Grant Officer.

[FR Doc. 02-621 Filed 1-9-02; 8:45 am]

BILLING CODE 4510-30-M